DEPARTMENT OF JUSTICE

Executive Office for Immigration Review

Fee Waiver Request; Correction

AGENCY: Executive Office for Immigration Review, Department of Justice.

ACTION: 60-Day notice; correction.

SUMMARY: The Executive Office for Immigration Review, Department of Justice, submitted a 60-day notice for publishing in the Federal Register on March 4, 2021 soliciting comments to an information collection request Fee Waiver Request, to the Office of Management and Budget (OMB) for review and approval in accordance with the Paperwork Reduction Act of 1995. Please disregard the duplicate 60-day notice, which was inadvertently published on April 28, 2020.

DATES: April 29, 2020.

FOR FURTHER INFORMATION CONTACT: If you have additional comments especially on the estimated public burden or associated response time, suggestions, or need a copy of the proposed information collection instrument with instructions or additional information, please contact Lauren Alder Reid, Assistant Director, Office of Policy, Executive Office for Immigration Review, 5107 Leesburg Pike, Suite 2500, Falls Church, VA 22041, telephone: (703) 305-0289.

SUPPLEMENTARY INFORMATION:

Correction

The 60-day notice for the Fee Waiver Request was published in the Federal Register of March 4, 2021 in FR Doc. 2021-04418, on page 12713. Please disregard the duplicate published on April 28, 2021 in FR Doc. 2021-08807, on page 22457.

Dated: April 29, 2021.
Melody Braswell,
Departmental Clearance Officer.

[FR Doc. 2021-09370 Filed 5-3-21; 8:45 am]

BILLING CODE 4410-30-P